ENVIRONMENTAL PROTECTION AGENCY

[ER-FRL-6622-3]

Environmental Impact Statements; Notice of Availability

Responsible Agency: Office of Federal Activities, General Information (202) 564-7167 or www.epa.gov/oeca/ofa.

Weekly receipt of Environmental Impact Statements

Filed October 22, 2001 Through October 26, 2001

Pursuant to 40 CFR 1506.9.

EIS No. 010401, DRAFT SUPPLEMENT, FEW, MI, US-31 Petoskey Area Improvement Study, To Reduce Congestion on US-31 in the City of Petoskey and Resort and Bear Creek Townships, COE Section 404 Permit, Emmet County, MI, Due: December 17, 2001, Contact: James A. Kirschensteiner (517) 702-1835.

EIS No. 010402, FINAL EIS, DOE, TN, Programmatic EIS—Oak Ridge Y-12 Plant Mission, Processing and Storage Highly Enriched Uranium, U.S. Nuclear Weapons Stockpile, Anderson County, TN, Due: December 10, 2001, Contact: Gary Hartman (865) 576-0273.

EIS No. 010403, DRAFT EIS, COE, WV, Marlington Local Protection Project, To Evaluate Flood Damage Reduction Measures for the Town of Marlington, Three Alternatives: Two Levee/Floodwall for Managing Flooding from Knapp Creek, Greenbrier River, Pocahontas County, WV, Due: December 21, 2001, Contact: S. Michael Worley (304) 529-5636.

EIS No. 010404, FINAL EIS, AFS, AK, Emerald Bay Timber Sale, Implementation, Ketchikan-Misty Fiords Ranger District, Tongass National Forest, U.S. Cost Guard Bridge Permit, NPDES Permit, and COE Section 10 and 404 Permits, Cleveland Peninsula, AK, Due: December 10, 2001, Contact: Colleen Grundy (907) 228-4114.

EIS No. 010405, DRAFT EIS, BLM, OR, Lakeview Resource Management Plan, To Unified Land Use Plan that will Replace all or Portion of three nearly Twenty year old Existing Land Use Plans, Implementation, Lake and Bend Counties, OR, Due: January 31, 2002, Contact: Dwayne Sykes (541) 947-2177.

This document is available on the Internet at: http://(www.or.blm.gov/Lakeview/Planning/planninglist.htm).

EIS No. 010406, DRAFT EIS, USA, PA, Fort Indiantown Gap National Guard Training Center, To Enhance Training and Operations, Pennsylvania National Guard (PANG), Annville, Dauphin and Lebanon Counties, PA, Due: December 10, 2001, Contact: Richard H. Shertzer (717) 861-2548.

EIS No. 010407, DRAFT SUPPLEMENTAL, COE, MO, St. Johns Bayou and New Madrid Floodway Project, Channel Enlargement and Improvement, Revised Information to Formulate and Analyze Additional Alternatives, Flood Control, National Economic Development (NED) New Madrid, Mississippi and Scott Counties, MO, Due: December 17, 2001, Contact: Mr. Shawn Phillips (901) 544-3321.

Dated: October 30, 2001.
Joseph C. Montgomery,
Director, NEPA Compliance Division, Office of Federal Activities.

[FR Doc. 01-27604 Filed 11-1-01; 8:45 am]

BILLING CODE 6560-50-U